DEPARTMENT OF STATE

[Public Notice: 11357]

In the Matter of the Revocation of the Designation of Ansarallah (and Other Aliases) as a Foreign Terrorist Organization

In consultation with the Attorney General and the Secretary of the Treasury, I hereby revoke the designation of Ansarallah, and its aliases, as a Foreign Terrorist Organization pursuant to Section 219 (a)(6)(A) of the Immigration and Nationality Act, as amended (8 U.S.C. 1189(a)(6)(A)).

This determination shall be published in the Federal Register.

Authority: 8 U.S.C. 1189.

Dated: February 11, 2021.
Anthony J. Blinken,
Secretary of State.

[FR Doc. 2021-03191 Filed 2-12-21; 8:45 am]

BILLING CODE P